FEDERAL COMMUNICATIONS COMMISSION

47 CFR Part 64

[WC Docket No. 12-375; Report No. 3192; FR ID 126157]

Petitions for Reconsideration of Action in Proceeding

AGENCY: Federal Communications Commission.

ACTION: Petitions for reconsideration.

SUMMARY: Petitions for Reconsideration (Petitions) have been filed in the Commission's proceeding by Al Kramer and Cheryl A. Leanza, on behalf of United Church of Christ, OC Inc. and Public Knowledge, Glenn S. Richards and Lee G. Petro, on behalf of NCIC Inmate Communications, Karen Quinones and Kari Cooke, on behalf of Mayor's Office of Deaf, DeafBlind, & Hard of Hearing, and David A. O'Connor, on behalf of Hamilton Relay, Inc.

DATES: Oppositions to the Petitions must be filed on or before February 23, 2023. Replies to an opposition must be filed on or before March 6, 2023.

ADDRESSES: Federal Communications Commission, 45 L Street NE, Washington, DC, 20554.

FOR FURTHER INFORMATION CONTACT: Michael Scott, Disability Rights Office, Consumer and Governmental Affairs Bureau, at (202) 418-1264, email: Michael.Scott@fcc.gov, or Simon Solemani, Pricing Policy Division, Wireline Competition Bureau, at (202) 418-2270, email: Simon.Solemani@fcc.gov.

SUPPLEMENTARY INFORMATION: This is a summary of the FCC's Public Notice, DA 23-81, Report No. 3192, released January 27, 2023. The full text of the FCC's Public Notice is available at: https://docs.fcc.gov/public/attachments/DA-23-81A1.pdf. The full text of United Church of Christ, OC Inc. and Public Knowledge's Petition for Reconsideration is available at: (https://www.fcc.gov/ecfs/document/1215186700210/2). The full text of NCIC Inmate Communications' Petitions for Reconsideration are available at: (https://www.fcc.gov/ecfs/document/1082733619116/1) and (https://www.fcc.gov/ecfs/document/10109846110722/1). The full text of Mayor's Office of Deaf, DeafBlind, & Hard of Hearing's Petition for Reconsideration is available at: (https://www.fcc.gov/ecfs/document/12230570217248/1). The full text of Hamilton Relay, Inc.'s Petition for Reconsideration is available at: (https://www.fcc.gov/ecfs/document/101092106904459/1). The Commission will not send a Congressional Review Act (CRA) submission to Congress or the Government Accountability Office pursuant to the CRA, 5 U.S.C. 801 because no rules are being adopted by the Commission.

Subjects: Rates for Interstate Inmate Calling Services, FCC 22-76, published at 87 FR 75496, December 9, 2022, in WC Docket No. 12-375; Rates for Interstate Inmate Calling Services, FCC 21-60, published at 86 FR 40682, July 28, 2021. This document is being published pursuant to 47 CFR 1.429(e). See also 47 CFR 1.4(b)(1) and 1.429(f), (g).

Number of Petitions Filed: 5.

Federal Communications Commission.
Marlene Dortch,
Secretary, Office of the Secretary.

[FR Doc. 2023-02664 Filed 2-7-23; 8:45 am]

BILLING CODE 6712-01-P